DEPARTMENT OF ENERGY

Federal Energy Regulatory Commission

[Docket No. CP00-350-000]

Bangor Gas Company; Notice of Application

June 2, 2000.

Take notice that on May 2, 2000, Bangor Gas Company (Bangor), c/o Sempra Energy, 555 West Fifth Street, Suite 1400, Los Angeles, CA 90013-1011, filed in Docket No. CP00-350-000 an application pursuant to Section 7(c) of the Natural Gas Act and Section 284.224 of the Commission's Regulations. Bangor requested a finding that it is exempt from Commission jurisdiction pursuant to the “Hinshaw exemption”, and requested a blanket certificate of public convenience and necessity for authorization to transport natural gas in interstate commerce as though it were an intrastate pipeline as defined in Section 311 of the Natural Gas Policy Act. Bangor also requested approval of rates for the services as set forth more fully in the application which is on file with the Commission and open to public inspection. This filing may be viewed on the web at http://www.ferc.us/online/rims.htm (call 202-208-2222).

Bangor is a local distribution company which currently is constructing facilities to be used for the transportation and sale of natural gas in the State of Maine. The Maine Public Utilities Commission (“MPUC”) regulates the rates (including rates for retail gas transportation), services, and facilities of Bangor in the Maine service areas to be served by Bangor immediately following construction of its natural gas pipeline and related facilities. Bangor expects to commence natural gas service in the City of Bangor, Maine, area by July 1, 2000.

Bangor will interconnect with the interstate pipeline facilities of Maritimes and Northeast Pipeline, L.L.C. (Maritimes Pipeline) within the State of Maine at a point in Veasie, Maine, near the City of Bangor and will transport gas from this point to distribute the gas to customer service lines in the Bangor area. Bangor states that all of the gas delivered by Bangor to its customers is expected to be obtained through the interconnection with Maritimes Pipeline and all of the gas so obtained will be consumed within the State of Maine.

Any person desiring to be heard or to make any protest with reference to said application should on or before, June 22, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by sections 7 and 15 of the Natural Gas Act and the Commission's Rules of Practice and Procedure, a hearing will be held without further notice before the Commission or its designee on this application if no motion to intervene is filed within the time required herein, if the Commission on its own review of the matter finds that a grant of the certificate and permission for abandonment are required by the public convenience and necessity. If a motion for leave to intervene is timely filed, or if the Commission on its own motion believes that a formal hearing is required, further notice of such hearing will be duly given.

Under the procedure herein provided for, unless otherwise advised, it will be unnecessary for Bangor to appear or be represented at the hearing.

David P. Boergers,
Secretary.

[FR Doc. 00-14401 Filed 6-7-00; 8:45 am]

BILLING CODE 6717-01-M